DEPARTMENT OF ENERGY

Federal Energy Regulatory Commission

[Docket Nos. OR96-2-012; Docket Nos. OR96-10-008; Docket Nos. OR96-17-005; Docket No. IS98-1-000]

Texaco Refining and Marketing Inc. v. SFPP, L.P.; ARCO Products Company, Mobil Oil Corporation v. SFPP, L.P.; Ultramar Inc. v. SFPP, L.P.; SFPP, L.P.; Notice of Suspension of Procedural Schedule

July 22, 2008.

On July 17, 2008, all parties in the above-captioned proceeding filed pursuant to Rule 212 of the Commissions Rules of Practice and Procedure, a Joint Motion to Suspend Paper Hearing Procedural Schedule and Request for Expedited Action. That filing advised the Commission that a limited settlement had been reached on the return on equity issues in the above-captioned proceeding. The parties also stated that therefore there was no further need to proceed with the hearing schedule that had been established in the above-captioned proceeding and requested that the hearing schedule be suspended. Notice is hereby given that the hearing schedule established in Docket No. OR96-2-012, et al., is suspended until further action by the Commission.

Kimberly D. Bose,
Secretary.

[FR Doc. E8-17283 Filed 7-28-08; 8:45 am]

BILLING CODE 6717-01-P